DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On March 15, 2018, OFAC determined that the property and interests in property subject to U.S. jurisdiction of the following persons are blocked under the relevant sanctions authority listed below.

Individuals

1. ASLANOV, Dzheykhun Nasimi Ogly (a.k.a. ASLANOV, Jay; a.k.a. ASLANOV, Jayhoon), Russia; DOB 01 Jan 1990; POB Azerbaijan; Gender Male (individual) [CYBER2] (Linked To: INTERNET RESEARCH AGENCY LLC).

Designated pursuant to section 1(a)(iii)(C) of Executive Order 13694 of April 1, 2015, “Blocking the Property of Certain Persons Engaging in Significant Malicious Cyber-Enabled Activities,” (E.O. 13694), as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

2. BOGACHEVA, Anna Vladislavovna, Russia; DOB 13 Mar 1988; Gender Female (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

3. BOVDA, Maria Anatolyevna (a.k.a. BELYAEVA, Maria Anatolyevna), Russia; DOB 21 Feb 1986; Gender Female (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

4. BOVDA, Robert Sergeyevich, Russia; DOB 27 Aug 1989; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

5. BURCHIK, Mikhail Leonidovich (a.k.a. ABRAMOV, Mikhail), Russia; DOB 07 Jun 1986; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

6. BYSTROV, Mikhail Ivanovich, Russia; DOB 21 Dec 1958; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

7. KAVERZINA, Irina Viktorovna, Russia; DOB 18 Jul 1986; Gender Female (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

8. KRYLOVA, Aleksandra Yuryevna, Russia; DOB 01 Jul 1986; Gender Female (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

9. PODKOPAEV, Vadim Vladimirovich, Russia; DOB 01 May 1985; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

10. POLOZOV, Sergey Pavlovich, Russia; DOB 13 Oct 1987; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

11. PRIGOZHIN, Yevgeniy Viktorovich (a.k.a. PRIGOZHIN, Evgeny), Russia; DOB 01 Jun 1961; Gender Male (individual) [UKRAINE—E.O. 13661] [CYBER2] (Linked To: INTERNET RESEARCH AGENCY LLC).

Designated pursuant to section 1(a)(iii)(B) of E.O. 13694, as amended, for having materially assisted, sponsored or provided financial, material, or technological support for, or goods in services to or in support of, INTERNET RESEARCH AGENCY LLC, a person whose property and interests in property are blocked pursuant to E.O. 13694.

12. VASILCHENKO, Gleb Igorevich, Russia; DOB 13 Apr 1991; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

13. VENKOV, Vladimir, Russia; DOB 28 May 1990; Gender Male (individual) [CYBER2] (Linked To: INTERNET RESEARCH AGENCY LLC).

Designated pursuant to section 1(a)(iii)(C) of E.O. 13694, as amended, for having acted for or on behalf of INTERNET RESEARCH AGENCY LLC, a person whose property and interests in property are blocked pursuant to E.O. 13694.

Also designated pursuant to section 1(a)(iii)(B) of E.O. 13694, as amended, for having materially assisted, sponsored or provided financial, material, or technological support for, or goods in services to or in support of, INTERNET RESEARCH AGENCY LLC, a person whose property and interests in property are blocked pursuant to E.O. 13694.

Entities

1. INTERNET RESEARCH AGENCY LLC (a.k.a. AZIMUT LLC; a.k.a. GLAVSET LLC; a.k.a. MEDIASINTEZ LLC; a.k.a. MIXINFO LLC; a.k.a. NOVINFO LLC), 55 Savushkina Street, St. Petersburg, Russia [CYBER2].

Designated pursuant to section 1(a)(ii)(E) of E.O. 13694, as amended, for tampering with, altering, or causing a misappropriation of information with the purpose or effect of interfering with or undermining election processes or institutions.

2. CONCORD CATERING, Nab. Lieutenant Schmidt D. 7, von Keyserling Mansion, St. Petersburg 119034, Russia; Ulitsa Volkhonka Dom 9, Moscow 119019, Russia [UKRAINE—E.O. 13661] [CYBER2] (Linked To: INTERNET RESEARCH AGENCY LLC).

Designated pursuant to section 1(a)(iii)(B) of E.O. 13694, as amended, for having materially assisted, sponsored or provided financial, material, or technological support for, or goods in services to or in support of, INTERNET RESEARCH AGENCY LLC, a person whose property and interests in property are blocked pursuant to E.O. 13694.

3. LIMITED LIABILITY COMPANY CONCORD MANAGEMENT AND CONSULTING (a.k.a. KONKORD MENEDZHMENT I KONSALTING, OOO; a.k.a. LLC CONCORD MANAGEMENT AND CONSULTING; a.k.a. OBSHCHESTVO S OGRANNICHENNOI OTVETSTVENNOSTYU KONKORD MENEDZHMENT I KONSALTING), D. 13 Litera A, Pom. 2-N N4, Naberezhnaya Reki Fontanki, St. Petersburg 191011, Russia; Registration ID 1037843002515 [UKRAINE—E.O. 13661] [CYBER2] (Linked To: INTERNET RESEARCH AGENCY LLC).

Designated pursuant to section 1(a)(iii)(B) of E.O. 13694, as amended, for having materially assisted, sponsored or provided financial, material, or technological support for, or goods in services to or in support of, INTERNET RESEARCH AGENCY LLC, a person whose property and interests in property are blocked pursuant to E.O. 13694.

Dated: March 15, 2018.
John E. Smith,
Director, Office of Foreign Assets Control.

[FR Doc. 2018-05599 Filed 3-19-18; 8:45 am]

BILLING CODE 4810-AL-P